DEPARTMENT OF HOMELAND SECURITY

Coast Guard

46 CFR Part 401

[Docket No. USCG-2024-0406]

RIN 1625-AC94

Great Lakes Pilotage Rates—2025 Annual Review

AGENCY: Coast Guard, DHS.

ACTION: Notice of proposed rulemaking; extension of the comment period.

SUMMARY: In accordance with the statutory provisions enacted by the Great Lakes Pilotage Act of 1960, on August 5, 2024, the Coast Guard published a notice of proposed rulemaking the Coast Guard is proposing new pilotage rates for 2025. The Coast Guard is extending the comment period of the Great Lakes Pilotage Rates—2025 Annual Review notice of proposed rulemaking for 15 days. The extension is intended to keep the comment window open until after the Great Lakes Pilotage Advisory Committee meeting on September 6, 2024. Participation in this meeting will allow stakeholders to better understand the issues at play and to submit more informed public comments.

DATES: The comment period for the notice of proposed rulemaking published on August 5, 2024, 89 FR 63334, is extended. Comments and related material must be received by the Coast Guard on or before September 25, 2024.

ADDRESSES: You may submit comments identified by docket number USCG-2024-0406 using the Federal Decision Making Portal at www.regulations.gov. See the “Public Participation and Request for Comments” portion of the SUPPLEMENTARY INFORMATION section for further instructions on submitting comments.

FOR FURTHER INFORMATION CONTACT: For information about this document, call or email Mr. Brian Rogers, Commandant, Office of Waterways and Ocean Policy—Great Lakes Pilotage Division (CG-WWM-2), Coast Guard; telephone 410-360-9260, email Brian.Rogers@uscg.mil.

SUPPLEMENTARY INFORMATION:

Public Participation and Request for Comments

The U.S. Coast Guard views public participation as essential to establishing equitable pilotage rates in the Great Lakes. The Coast Guard will consider all information and material received during the comment period. If you submit a comment, please include the docket number for this request for information, indicate the specific section of this document to which each comment applies, and provide a reason for each suggestion or recommendation.

Methods for submitting comments. We encourage you to submit comments through the Federal Decision-Making Portal at www.regulations.gov. To do so, go to www.regulations.gov, type USCG-2024-0406 in the search box, and click “Search.” Next, look for this document in the Search Results column, and click on it. Then click on the Comment option. If your material cannot be submitted using www.regulations.gov, contact the person in the FOR FURTHER INFORMATION CONTACT section of this document for alternate instructions.

Viewing material in docket. To view documents mentioned in this document as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Background and Discussion

The proposed rule was published on August 5, 2024, with a comment period that ended on September 4, 2024 (89 FR 63334). In the rule, the Coast Guard proposed new pilotage rates for the 2025 season.

On September 6, 2024, the Great Lakes Pilotage Advisory Committee (GLPAC) will meet in Massena, New York, to discuss matters relating to Great Lakes Pilotage, including review of proposed Great Lakes Pilotage regulations and policies. The meeting is open to the public (89 FR 60440). In order to allow interested parties to participate in the GLPAC meeting before drafting and submitting their public comments, the Coast Guard is extending the comment period 15 business days. The new comment period now closes on September 25, 2024.

This document is issued under the authority of 46 U.S.C. 70124.

Dated: August 20, 2024.
W.R. Arguin,
Rear Admiral, U.S. Coast Guard, Assistant Commandant for Prevention Policy.

[FR Doc. 2024-19089 Filed 8-27-24; 8:45 am]

BILLING CODE 9110-04-P